DEPARTMENT OF COMMERCE

National Institute of Standards and Technology

Establishment of the Civilian Innovation Advisory Board and Call for Nominations

AGENCY: National Institute of Standards and Technology, Department of Commerce.

ACTION: Notice of establishment and call for nominations to serve on the Civilian Innovation Advisory Board.

SUMMARY: The Secretary of Commerce (Secretary), announces the establishment of the Civilian Innovation Advisory Board (The Board) in accordance with the Federal Advisory Committee Act of 1972 (FACA), as amended, and the Secretary of Commerce (Secretary), a discretionary advisory committee. The Board shall provide independent advice and recommendations to the Secretary of Commerce and, upon request, to the Administrator of the General Services Administration (GSA) on issues relevant to the Federal Government's engagement and support of technological innovation, and the incorporation and adoption of emerging technologies and innovative means to address critical technological challenges facing the Federal Government in its provision of services to the public, within the framework of applicable national policies.

The National Institute of Standards and Technology (NIST or Institute) through the Department of Commerce (DoC) invites and requests nominations of individuals for appointment to the Board. NIST will consider nominations received in response to this notice for appointment to the Board, in addition to nominations already received. Registered Federal lobbyists may not serve on NIST Federal Advisory Committees in an individual capacity.

DATES: Nominations for the Board will be accepted on an ongoing basis and will be considered as and when vacancies arise effective October 1, 2020.

ADDRESSES: Please submit nominations to Alicia Chambers, Committee Liaison Officer, National Institute of Standards and Technology, 100 Bureau Drive, MS 1000, Gaithersburg, MD 20899. Nominations may also be submitted via email to Alicia.Chambers@nist.gov.

FOR FURTHER INFORMATION CONTACT: Jason Boehm, Director of Program Coordination Office, National Institute of Standards and Technology, 100 Bureau Drive, MS 100, Gaithersburg, MD 20899. His email is Jason.Boehm@nist.gov, and phone number is 301-975-8678.

SUPPLEMENTARY INFORMATION:

Committee Information:

The Civilian Innovation Advisory Board (Board) is established pursuant to the Federal Advisory Committee Act, as amended, 5 U.S.C. App.

Objectives and Duties: The Board shall provide independent advice and recommendations through the Director of NIST to the Secretary and, upon request, through the Director of Technology Transformation Services (TTS) to the Administrator of GSA. Such advice and recommendations shall address strengthening the civilian Federal Government's ability to engage with and support American innovation and the ability of the Federal Government to incorporate and apply innovative and emerging technological means to streamline organizational structure and process issues, modernize business and functional concepts, and accelerate the development and procurement of technology applications to enhance the Federal Government's service to the public. The Board shall provide recommendations and strategies to enable the Federal Government to adopt and keep pace with industry.

In developing its recommendations, the Board shall identify critical advances in emerging technology, management, and IT service delivery that should be developed, piloted, or adopted within the Federal Government. These may include advances that are responsive to the rapidly evolving digital marketplace and approaches to accelerating the introduction and use of emerging technologies and approaches for governance, procurement, and management processes for Federal civilian IT systems, applications, services, and infrastructure. The Board shall submit a report to the Secretary, through the Director of NIST, providing its recommendations within two years from its establishment.

Membership

The Board shall be composed of no more than 15 members. The members must possess some or all of the following:

(a) Proven track record of sound judgment in leading or governing large, complex private sector corporations or organizations;

(b) demonstrated performance in identifying and adopting new technology innovations into the operations of large organizations in either the public or private sector; and

(c) demonstrated performance in developing new technology concepts.

The Board members will be authorized by the Department of Commerce to serve for three-year terms, and in accordance with DOC policies and procedures, including the limit to six years of consecutive service. Members of the Board who are not full-time or permanent part-time Federal officers or employees will be appointed to serve as special government employee (SGE) members. Members of the Board who are full-time or permanent part-time Federal officers or employees will be appointed pursuant to 41 CFR 102-3.130(h) to serve as regular government employee (RGE) members. No member, unless authorized by the Secretary of Commerce, may serve more than two consecutive terms of service on the Board, to include its subcommittees.

Members shall be selected solely on the basis of established records of distinguished service; and shall be eminent in fields such as business, research, new product development, engineering, workforce development, education, management consulting, environment, and international relations.

Consistent with DOC policy, the Director of NIST, may appoint the Board Chair from among the Board membership approved in accordance with policy and procedures and, in doing so, shall determine the term of service for the Board Chair, which shall not exceed the member's approved term of service.

All Board members will be reimbursed for travel and per diem as it pertains to official business of the Board. Board members will serve without compensation.

The Director of NIST on behalf of the Secretary of Commerce, and pursuant to DOC policies and procedures, may appoint, as deemed necessary, non-voting subject matter experts (SMEs) to assist the Board or its subcommittees on an ad hoc basis. These non-voting SMEs are not members of the Board or its subcommittees and will not engage or participate in any deliberations by the Board or its subcommittees. These non-voting SMEs, if not full-time or permanent part-time Federal officers or employees, will be appointed pursuant to 5 U.S.C. 3109 on an intermittent basis to address specific issues under consideration by the Board.

Members shall not reference or otherwise utilize their membership on the Board in connection with public statements made in their personal capacities without a disclaimer that the views expressed are their own and do not represent the views of the IAB, NIST or the Department of Commerce.

Miscellaneous

Meetings will be conducted at least twice a year in selected locations across the country.

1. Generally, Board meetings are open to the public.

Nomination Information:

1. Nominations are sought from all fields described above.

2. Nominees should have established records of distinguished service and shall be eminent in fields such as business, research, new product development, engineering, labor, education, management consulting, environment and international relations. The category (field of eminence) for which the candidate is qualified should be specified in the nomination letter. Nominations for a particular category should come from organizations or individuals within that category. A summary of the candidate's qualifications should be included with the nomination, including (where applicable) current or former service on Federal advisory boards and Federal employment. In addition, each nomination letter should state that the candidate agrees to the nomination, acknowledges the responsibilities of serving on the Board, and will actively participate in good faith in the tasks of the Board.

3. The Department of Commerce is committed to equal opportunity in the workplace and seeks a broad-based and diverse Board membership.

Kevin Kimball,
NIST Chief of Staff.

[FR Doc. 2020-21834 Filed 10-1-20; 8:45 am]

BILLING CODE 3510-13-P